DEPARTMENT OF VETERANS AFFAIRS

[OMB Control No. 2900-0872]

Agency Information Collection Activity: Expanded Access to Non-Va Care Through the MISSION Program: Establishing a Process for Certification, Discontinuance, and Disputes for Veterans Care Agreements (VCAs)

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 23, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-0872” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Expanded Access to Non-Va Care Through the MISSION Program: Establishing a Process for Certification, Discontinuance, and Disputes for Veterans Care Agreements (VCAs).

OMB Control Number: 2900-0872.

Type of Review: Extension of a currently approved collection.

Abstract: Section 102 of the VA Maintaining Internal Systems and Strengthening Integrated Outside Networks (MISSION) Act of 2018 (Pub. L. 115-182) authorizes VA to enter into Veterans Care Agreements (VCAs) to furnish required care and services when such care and services are not feasibly available to certain individuals through a VA facility, a contract, or a sharing agreement. VA seeks to establish a new collection to implement three requirements under section 102 of the MISSION Act:

a. Certification: Eligible entities and providers will be required to submit to VA information concerning relevant credentials, licenses, and other information as requested by VA to evaluate eligibility for certification. The information to be collected is authorized by 38 U.S.C. 1703A(c).

b. Discontinuation: Eligible entities and providers would be required to submit to VA a written notice of intent to discontinue a Veterans Care Agreement prior to the date of such discontinuation. The information to be collected is authorized by 38 U.S.C. 1703A(f)(1).

c. Disputes: Eligible entities and providers would be required to submit to VA written notices of dispute that contain specific information to allow VA to assess and resolve the matter in dispute. The information to be collected is authorized by 38 U.S.C. 1703A(h).

Certification

Affected Public: Private Sector.

Estimated Annual Burden: 1,263 hours.

Estimated Average Burden per Respondent: 5 minutes.

Frequency of Response: Once annually.

Estimated Number of Respondents: 15,152.

Discontinuation

Affected Public: Private Sector.

Estimated Annual Burden: 25 hours.

Estimated Average Burden per Respondent: 10 minutes.

Frequency of Response: Once annually.

Estimated Number of Respondents: 152.

Disputes

Affected Public: Private Sector.

Estimated Annual Burden: 268 hours.

Estimated Average Burden per Respondent: 20 minutes.

Frequency of Response: Once annually.

Estimated Number of Respondents: 803.

By direction of the Secretary.
Danny S. Green,
Interim VA Clearance Officer, Office of Quality, Performance and Risk (OQPR), Department of Veterans Affairs.

[FR Doc. 2019-23044 Filed 10-22-19; 8:45 am]

BILLING CODE 8320-01-P